DEPARTMENT OF ENERGY

Federal Energy Regulatory Commission

[Docket Nos. CP06-455-000, CP06-456-000 and CP06-457-000]

Kinder Morgan Illinois Pipeline LLC; Notice of Application

September 25, 2006.

Take notice that on September 14, 2006, Kinder Morgan Illinois Pipeline LL (KMIP), 747 East 22nd Street, Lombard, Illinois 60148, filed in Docket Nos. CP06-455-000, CP06-456-000 and CP06-457-000 an application pursuant to sections 7 (c) of the Natural Gas Act (NGA) and Part 157 of the Commission's Regulations, for certificates of public convenience and necessity authorizing:

The long-term lease of 360 MDth per day of firm capacity in approximately 25.73 miles of existing pipeline facilities owned by Natural Gas Pipeline Company of America (Natural), all located in Cook, Will and Kankabee Counties, Illinois; the construction and operation of approximately 3.1 miles of new 24-inch pipeline and appurtenances; the construction and operation of three (3) new meter/regulator stations and appurtenances (for the receipt of gas into its lease capacity and its new pipeline); the undertaking of self-implementing interstate transportation of natural gas under Part 284, Subpart G of the Commission's Regulations; and the future construction of facilities under the blanket certificate authority under Part 157, Subpart f of the Commission's Regulations.

This application is on file with the Commission and open to public inspection. This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

KMIP will be a new interstate pipeline company subject to Commission jurisdiction under the NGA. The design capacity of KMIP will be 360 MDth per day. KMIP has one anchor shipper, The Peoples Gas Light and Coke Company (PGLC), which has signed a precedent agreement for long-term firm transportation service totaling 360 MDth per day. KMIP's facilities are intended to help meet the goals of PGLC which are to: (1) Increase gas supply diversity into the City of Chicago, (2) lessen dependence on PGLC's Crawford Station by providing additional supply access directly to the Calumet region of its system and (3) increase reliability of supply in the event of catastrophic interruption of existing deliveries into PGLC's Chicago distribution system. The estimated cost of the proposed facilities is $13.3 million. KMIP proposes an in-service date by November 1, 2007.

Any questions regarding this application should be directed to Bruce H. Newsome, Vice President, Kinder Morgan Illinois Pipeline LLC, 747 East 22nd Street, Lombard, Illinois 60148 at (603) 691-3526.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

Comments, protests and interventions may be filed electronically via the Internet in lieu of paper. See 18 CFR 385.2001(a)(1)(iii) and the instructions on the Commission's Web site under the “e-Filing” link at http://www.ferc.gov. The Commission strongly encourages intervenors to file electronically. Persons unable to file electronically should submit an original and 14 copies of the protest or intervention to the Federal Energy Regulatory Commission, 888 First Street, NE., Washington, DC 20426.

Comment Date: October 16, 2006.

Magalie R. Salas,
Secretary.

[FR Doc. E6-16004 Filed 9-28-06; 8:45 am]

BILLING CODE 6717-01-P